FEDERAL MARITIME COMMISSION

Sunshine Act Meeting

AGENCY HOLDING THE MEETING: Federal Maritime Commission.

TIME AND DATE: February 15, 2017; 10:00 a.m.

PLACE: 800 N. Capitol Street NW., First Floor Hearing Room, Washington, DC.

STATUS: The meeting will be held in Open Session and will be streamed live at http://fmc.capitolconnection.org/.

MATTERS TO BE CONSIDERED:

Open Session

1. Briefing by Commissioner Doyle on the Competition Law in the Transport Sector Conference

2. Staff Update on Docket No. 16-05: Service Contracts and NVOCC Service Arrangements

CONTACT PERSON FOR MORE INFORMATION: Rachel E. Dickon, Assistant Secretary, (202) 523 5725.

Rachel E. Dickon,
Assistant Secretary.

[FR Doc. 2017-02881 Filed 2-8-17; 4:15 pm]

BILLING CODE 6731-AA-P